DEPARTMENT OF DEFENSE

Department of the Army, Corps of Engineers

[COE-2023-0002]

Water Resources Development Act of 2022 Comment Period and Stakeholder Sessions

AGENCY: U.S. Army Corps of Engineers, DoD.

ACTION: Request for comments; announcement of stakeholder sessions.

SUMMARY: The Assistant Secretary of the Army for Civil Works (ASA (CW)) is seeking public comment on any provisions in the Water Resources Development Act (WRDA) of 2022. The Office of the ASA(CW) will consider all comments received during the 60-day public comment period in the preparation of any guidance.

DATES: The public comment period will end on March 21, 2023. To ensure your comment is considered during development of implementation guidance, comments should be received on or before that date. In addition, three stakeholder sessions will be held to allow the public to provide input on any provisions in WRDA 2022 at the following dates/times: February 15, 2023 from 2:00 p.m. to 4:00 p.m. Eastern; February 22, 2023 from 2:00 p.m. to 4:00 p.m. Eastern; March 1, 2023 from 2:00 to 4:00 p.m. Eastern. Please refer to the Supplementary Information section for additional information on the stakeholder sessions.

ADDRESSES: You may submit written comments, identified by Docket ID No. COE-2023-0002, by any of the following methods:

Federal eRulemaking Portal: http://www.regulations.gov/. Follow the online instructions for submitting comments.

Email: WRDA2022@usace.army.mil. Include Docket ID No. COE-2023-0002 in the subject line of the message.

Mail: U.S. Army Corps of Engineers, ATTN: Ms. Amy Frantz, CEW-P, U.S. Army Corps of Engineers, 3F91, 441 G St. NW, Washington, DC 20314.

Hand Delivery/Courier: Due to security requirements, we cannot receive comments by hand delivery or courier. Comments received may be posted without change to https://www.regulations.gov/, including any personal information provided.

FOR FURTHER INFORMATION CONTACT: All requests for further information on the notice and the stakeholder sessions may be directed to Mr. Gib Owen, 571-274-1929 or gib.a.owen.civ@army.mil. Mr. Owen may also be contacted by mail at Office of the Assistant Secretary of the Army for Civil Works, 108 Army Pentagon. Washington, DC 20310-0108.

SUPPLEMENTARY INFORMATION: This comment period regarding WRDA 2022 (Pub. L. 117-81) is being conducted in accordance with Section 1105 of the Water Resources Development Act of 2018 (Pub. L. 115-270). A copy of WRDA 2022 can be found at: https://www.usace.army.mil/Missions/Civil-Works/Water-Resources-Development-Act/. The ASA(CW) and the Corps will hold focused stakeholder sessions using webinars/teleconferences by means of the web link https://usace1.webex.com/meet/WRDA2022 and teleconference information at (844) 800-2712, Code 199 937 4287. See dates and times above. Commenters can provide information on any provision of interest during each session. Written final guidance will be available to the public on a publicly accessible website (https://www.usace.army.mil/Missions/Civil-Works/Project-Planning/Legislative-Links/wrda_2022/).

Michael L. Connor,
Assistant Secretary of the Army (Civil Works).

[FR Doc. 2023-01043 Filed 1-19-23; 8:45 am]

BILLING CODE 3720-58-P